DEPARTMENT OF COMMERCE

National Oceanic and Atmospheric Administration

Draft Management Plan and Environmental Assessment for Thunder Bay National Marine Sanctuary: Notice of Public Availability and Meetings

AGENCY: Office of National Marine Sanctuaries (ONMS), National Ocean Service (NOS), National Oceanic and Atmospheric Administration (NOAA), Department of Commerce (DOC).

ACTION: Notice of public availability and meetings.

SUMMARY: In accordance with section 304(e) of the National Marine Sanctuaries Act (NMSA), as amended, NOAA is soliciting public comment on the draft management plan and draft environmental assessment for Thunder Bay National Marine Sanctuary.

DATES: Comments: Comments on the draft management plan and draft environmental assessment will be considered if received on or before April 10, 2009.

Public meetings: See SUPPLEMENTARY INFORMATION section below for the dates and locations for the public meetings.

ADDRESSES: To obtain a copy: For a copy of the draft management plan and draft environmental assessment, contact the Management Plan Review Coordinator, Thunder Bay National Marine Sanctuary, 500 W. Fletcher Street, Alpena, MI 49707. Copies can also be downloaded from the Thunder Bay National Marine Sanctuary (TBNMS) website at http://www.thunderbay.noaa.gov.

To submit comments: Comments on the draft management plan and draft environmental assessment may be submitted by one of the following methods:

1. In writing to the Thunder Bay NMS Management Plan Review Coordinator (see to obtain a copy section above);

2. By e-mail to TBMPR@noaa.gov; or

3. By providing comments (oral or written) at one of the public meetings (see public meetings section below).

Instructions: All comments received are a part of the public record and will be generally posted to http://www.regulations.gov without change. All Personal Identifying Information (for example, name, address, etc.) voluntarily submitted by the commenter may be publicly accessible. Do not submit confidential business information or otherwise sensitive or protected information. NOAA will accept anonymous comments (enter N/A in the required fields if you wish to remain anonymous). Attachments to electronic comments will be accepted in Microsoft Word, Excel, WordPerfect, or Adobe PDF file formats only.

Public meetings: See SUPPLEMENTARY INFORMATION section for the dates and locations for the public meetings.

FOR FURTHER INFORMATION CONTACT: Tera Panknin at (989) 356-8805 ext. 38 or via e-mail at TBMPR@noaa.gov.

SUPPLEMENTARY INFORMATION:

Background Information

On October 7, 2000, the National Oceanic and Atmospheric Administration (NOAA) designated TBNMS as the nation's thirteenth national marine sanctuary (NMS). At that time, NOAA prepared and released a management plan for the new sanctuary. TBNMS is jointly managed by NOAA and the State of Michigan. The sanctuary's mission is to preserve nationally significant shipwrecks and regional maritime landscape through resource protection, education, and research. The sanctuary also promotes appreciation and responsible use of Thunder Bay, the Great Lakes, and the oceans.

NOAA is now undergoing the first review of the 1999 TBNMS management plan pursuant to section 304(e) of the NMSA. The draft revised management plan (2009) was prepared by NOAA and the State of Michigan's Department of History, Arts and Libraries in cooperation with the Thunder Bay Sanctuary Advisory Council and with input from the public, local governments, State and Federal agencies, and other stakeholders. The draft revised plan is comprised of four action plans (resource protection, education and outreach, research, and operations). It sets priorities to guide sanctuary programs and operations and provides the public with a better understanding of the sanctuary's strategies to protect Thunder Bay's resources.

The draft environmental assessment analyzes the environmental impacts of the revised management plan pursuant to the National Environmental Policy Act. In doing so, it analyzes two alternatives: the status quo (no change to the 1999 management plan) and the preferred alternative (revising the 1999 management plan).

Public Meetings

Public meetings will be held at the following locations and dates:

March 18, 6:30 p.m | Rogers City, MI | Presque Isle District Library, 181 East Erie Street, Rogers City, MI 49779.
March 19, 6:30 p.m | Harrisville, MI | Harrisville Courthouse, 106 North 5th Street, Harrisville, MI 48740.
March 20, 2 p.m | Lansing, MI | Michigan Historical Center, 702 West Kalamazoo Street, Lansing, MI 48909.
March 24, 6:30 p.m | Alpena, MI | Great Lakes Maritime Heritage Center, 500 West Fletcher Street, Alpena, MI 49707.

Dated: February 17, 2009.
Daniel J. Basta,
Director, Office of National Marine Sanctuaries.

[FR Doc. E9-3720 Filed 2-23-09; 8:45 am]

BILLING CODE 3510-NK-P